INTERNATIONAL TRADE COMMISSION

[Investigation No. 337-TA-1486]

Certain Disposable and Other Closed-System Electronic Nicotine Delivery Systems (Ends) Devices and Components Thereof; Notice of Institution of Investigation

AGENCY: U.S. International Trade Commission.

ACTION: Notice.

SUMMARY: Notice is hereby given that a complaint was filed with the U.S. International Trade Commission on January 13, 2026, under section 337 of the Tariff Act of 1930, as amended, on behalf of R.J. Reynolds Tobacco Company of Winston-Salem, North Carolina; R.J. Reynolds Vapor Company of Winston-Salem, North Carolina; RAI Services Company of Winston-Salem, North Carolina; and Reynolds Marketing Services Company of Winston-Salem, North Carolina. A supplement was filed on February 3, 2026. The complaint, as supplemented, alleges violations of section 337 based upon the importation into the United States and the sale of certain disposable and other closed-system electronic nicotine delivery systems (ENDS) devices and components thereof by reason of unfair methods of competition and unfair acts based on (1) violations of the Prevent All Cigarette Trafficking Act (“PACT Act”), 15 U.S.C. 375 et seq., (2) violations of state and/or local flavor bans, (3) violations of state directory requirements, and (4) non-compliance with state and/or local excise taxes, the threat or effect of which is to destroy or substantially injure an industry in the United States.

The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2026).

Scope of Investigation: Having considered the complaint, the U.S. International Trade Commission, on February 26, 2026, ordered that—

(1) Pursuant to subsection (b) of section 337 of the Tariff Act of 1930, as amended, an investigation be instituted to determine whether there is a violation of subsection (a)(1)(A) of section 337 in the importation into the United States or in the sale of certain products identified in paragraph (2) by reason of unfair methods of competition and unfair acts based on violations of the Prevent All Cigarette Trafficking Act (“PACT Act”), 15 U.S.C. 375 et seq., the threat or effect of which is to destroy or substantially injure an industry in the United States;

(2) Pursuant to section 210.10(b)(1) of the Commission's Rules of Practice and Procedure, 19 CFR 210.10(b)(1), the plain language description of the accused products or category of accused products, which defines the scope of the investigation, is “disposable and other closed-system electronic nicotine delivery systems (ENDS) devices and components thereof (specifically pre-filled pods, cartridges, and e-liquids)”;

(3) For the purpose of the investigation so instituted, the following are hereby named as parties upon which this notice of investigation shall be served:

(a) The complainants are:

R.J. Reynolds Tobacco Company, 401 North Main Street, Winston-Salem, NC 27101

R.J. Reynolds Vapor Company, 401 North Main Street, Winston-Salem, NC 27101

RAI Services Company, 401 North Main Street, Winston-Salem, NC 27101

Reynolds Marketing Services Company, 401 North Main Street, Winston-Salem, NC 27101

(b) The respondents are the following entities alleged to be in violation of section 337, and are the parties upon which the complaint is to be served:

D&A Distribution, LLC d/b/a Strictly E-cig, 14045 Abercorn Street, Suite 1614, Savannah, GA 31419

ECTO World LLC d/b/a Demand Vape, 3470 Genesee Street, Buffalo, NY 14225

Geek Miracle (HK) Limited, Unit 2308 23/F The Metropolis Tower, 10 Metropolis Drive, Hunghom, KL, Hong Kong, China

Guangdong Qisitech Co., Ltd., Fuxing Road, Changan Town, Room 201, Building 3, No. 36, Dongguan City, Guangdong, China 523850

Headway Funding Inc. d/b/a Jewel Distribution, 5331 Derry Ave., Suite J, Agoura Hills, CA 91301

Heaven Gifts International Ltd., 28th Floor, Building A, Huahai Financial Innovation Center, Nashan District, Shenzhen, China 518000

iMiracle HK Limited, Flat/Room 06-07 23/F, The Metropolis Tower, 10 Metropolis Drive, Hung Hom, Kowloon, Hong Kong, China 999077

iMiracle (Shenzhen) Technology Co. Ltd., Room 1203, Block 1, Wanting Building, Xixiang Substrict, Bao'an District, Shenzhen, China 518126

Magellan Technology Inc., 3470 Genesee Street, Buffalo, NY 14225

Midwest Goods Inc. d/b/a Midwest Distribution Illinois, 1001 Foster Avenue, Bensenville, IL 60106

RZ Smoke Inc., 80 Bennett Road, Suffield, CT 06078

Safa Goods, LLC, 8264 Duffie Drive, Punta Gorda, FL 33982

Shenzhen Geekvape Technology Co., Ltd, 7th Floor, No. 3 West Block, LaoBing, Building, XingYe Road #3012, Xixiang Street, Bao'An District, Shenzhen, China 518502

Texas Central Distribution LLC, 7576 Harwin Drive, Houston, TX 77036

Unishow USA, Inc., 5902 Sovereign Drive, Suite B, Houston, TX 77036

Zhuhai Qisitech Co., Ltd., Room 201, Building 5, No. 16, Jinxing Road, Tangjiwan Town, High-Tech Zone, Zhuhai, Guangdong Province, China 519085

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 26, 2026.
Lisa Barton,
Secretary to the Commission.

[FR Doc. 2026-04152 Filed 3-2-26; 8:45 am]

BILLING CODE 7020-02-P